DEPARTMENT OF HOMELAND SECURITY

Transportation Security Administration

Intent to Request Extension From OMB of One Current Public Collection of Information: Speaker Request Form

AGENCY: Transportation Security Administration, DHS.

ACTION: 60-Day notice.

SUMMARY: The Transportation Security Administration (TSA) invites public comment on one currently approved Information Collection Request (ICR), Office of Management and Budget (OMB) control number 1652-0075, abstracted below that we will submit to OMB for an extension in compliance with the Paperwork Reduction Act (PRA). The ICR describes the nature of the information collection and its expected burden. The collection involves point of contact information for the person/organization requesting a TSA speaker; logistical information for that speaking engagement; and context for the request to determine the audience reach, any ethical concerns, and possible promotion of the speaking engagement.

DATES: Send your comments by February 25, 2025.

ADDRESSES: Comments may be emailed to TSAPRA@tsa.dhs.gov or delivered to the TSA PRA Officer, Information Technology, TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0075; Speaker Request Form. Under the Aviation and Transportation Security Act (ATSA) (Pub. L. 107-71; 115 Stat. 597; Nov. 19, 2001), TSA is responsible for security in all modes of transportation, including screening operations for passenger air transportation and for carrying out such other duties it considers appropriate relating to transportation security. See sec. 101(a) of ATSA, 115 Stat. 597-598, as codified at 49 U.S.C. 114(d) and (f). DHS Directive 110-02 established the Department of Homeland Security (DHS) policy with respect to the acceptance of public speaking invitations by DHS employees and formally implemented the Office of Public Affairs DHS Speakers Bureau as well as DHS Component speaker bureaus. Based on these requirements, TSA created its own Speaker Bureau and modeled it after the DHS Speakers Bureau process to allow for the acceptance of public speaking invitations.

To comply with the policy, TSA created the Speaker Request Form, which collects information on the requestor and the event a speaker would attend. The form requests the name of the organization; the event sponsor; whether it is a profit or nonprofit organization; the point of contact information for the person coordinating the event; the title, date, time, and location of the event; the type of event (e.g., keynote, dinner, panel, interview, etc.); the purpose of the event; the event website, the topics of discussion; the audience makeup; other notable guests; and if media will be attending.

This basic contact information is needed to respond to the requestor, determine where to find a TSA speaker geographically, and determine what resources would be needed to send a speaker to the event. TSA uses this information to determine if it is consistent with federal ethics requirements to send a speaker to the speaking engagement and if it aligns with the agency's communication goals. If TSA determines it is in the best interests of the agency to participate, TSA will also use this information to select who should speak on behalf of the agency on the requested topics. The information is collected only once for any engagement and is completely voluntary on the part of the requestor. The form streamlines the TSA Speaker Request's coordination and reduces and confusion with the requestor.

TSA is submitting the form as a Common Form to permit Federal agency users beyond the agency that created the form (e.g., DHS or U.S. Office of Personnel Management) to streamline the information collection process in coordination with OMB.

TSA expects to receive approximately 300 speaker requests per year. The agency estimates that each respondent will spend approximately 10 minutes to complete the Speaker Request Form, for a total annual burden of 3,000 minutes (50 hours).

Dated: December 19, 2024.
Christina A. Walsh,
TSA Paperwork Reduction Act Officer, Information Technology.

[FR Doc. 2024-30789 Filed 12-26-24; 8:45 am]

BILLING CODE 9110-05-P